DEPARTMENT OF DEFENSE

Department of the Navy

[Docket ID: USN-2023-HQ-0020]

Submission for OMB Review; Comment Request

AGENCY: Department of the Navy (DON), Department of Defense (DoD).

ACTION: 30-Day information collection notice.

SUMMARY: The DoD has submitted to the Office of Management and Budget (OMB) for clearance the following proposal for collection of information under the provisions of the Paperwork Reduction Act.

DATES: Consideration will be given to all comments received by August 14, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Challenges of Operational Environments Study; OMB Control Number 0703-COPE.

Type of Request: New collection.

Number of Respondents: 5,000.

Responses per Respondent: 2.

Annual Responses: 10,000.

Average Burden per Response: 25 minutes.

Annual Burden Hours: 4,167.

Needs and Uses: Recent suicide clusters aboard Naval vessels have highlighted a critical need to better understand risk factors for suicide among various shipboard environments (e.g., in maintenance yards, at sea). Unfortunately, extremely limited research to date has identified individual and organizational factors that are directly associated with harmful and destructive behaviors, including suicidality, in a variety of Naval environments. In response, the Office of Naval Research and the Defense Health Agency have funded a longitudinal study called the Challenges of Operational Environments Study to identify specific shipboard stressors associated with different phases of the aircraft carrier life cycle and determine the effects of these stressors on Sailor's mental and behavioral health and readiness. Research is needed to provide the Navy with in-depth information on specific risks to Sailors at each phase of the carrier cycle, such that allocation of resources to prevent suicidality and other mental/behavioral health problems can be tailored to meet potentially unique needs at each phase. Additionally, findings from the proposed effort will be used to develop targeted recommendations to improve Sailor mental health and well-being that will be provided directly to Navy leaders.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Reginald Lucas.

Requests for copies of the information collection proposal should be sent to Mr. Lucas at whs.mc-alex.esd.mbx.dd-dod-information-collections@mail.mil.

Dated: July 9, 2024.
Aaron T. Siegel,
Alternate OSD Federal Register Liaison Officer, Department of Defense.

[FR Doc. 2024-15419 Filed 7-12-24; 8:45 am]

BILLING CODE 6001-FR-P